GENERAL SERVICES ADMINISTRATION

GSA BULLETIN FMR 2008-B3

Use of Segways® and Similar Devices by Individuals with a Mobility Impairment in GSA-Controlled Federal Facilities

AGENCY: General Services Administration

ACTION: Notice of Interim Policy

SUMMARY: The General Services Administration (GSA) recognizes that some persons with mobility impairments are utilizing the Segway® Personal Transporter (Segway) and similar devices as their preferred means of locomotion. GSA is committed to making all reasonable efforts to make its facilities accessible to persons with disabilities. To that end, on December 3, 2007, GSA's Public Buildings Service issued the following interim policy to permit individuals with a mobility impairment to use these devices in Federal buildings under GSA's jurisdiction, custody or control, including those buildings delegated to other Federal agencies by the Administrator of General Services. This interim policy does not cover privately-owned leased buildings. GSA will issue a final policy once the effectiveness of the interim policy has been thoroughly reviewed and assessed.

FOR FURTHER INFORMATION CONTACT: Stanley C. Langfeld, Director, Regulations Management Division (MPR), General Services Administration, Washington, DC 20405; stanley.langfeld@gsa.gov, (202) 501-1737. Please cite FMR Bulletin 2008-B3.

Dated: December 17, 2007.
Kevin Messner,
Acting Associate Administrator, Office of Governmentwide Policy.

GENERAL SERVICES ADMINISTRATION

[GSA Bulletin FMR 2008-B3]

TO: Heads of Federal Agencies

SUBJECT: Use of Segways® and Similar Devices by Individuals with a Mobility Impairment in GSA-Controlled Federal Facilities

Interim Segway® Personal Transporter Policy

The General Services Administration (GSA) recognizes that some persons with mobility impairments are utilizing the Segway® Personal Transporter (Segway) and similar devices as their preferred means of locomotion. GSA is committed to making all reasonable efforts to make its facilities accessible to persons with disabilities. To that end, GSA's Public Buildings Service is issuing this interim policy to permit individuals with a mobility impairment to use these devices in Federal buildings under GSA's jurisdiction, custody or control, including those buildings delegated to other Federal agencies by the Administrator of General Services. This interim policy does not cover privately-owned leased buildings. The use of Segways and other similar devices in leased locations should be negotiated with the building lessor. No alterations or modifications should be required for Segways or similar devices to enter GSA-controlled buildings. GSA will continue to comply with the building accessibility standards identified in 41 C.F.R. § 102-76.65.

GSA will issue a final policy once the effectiveness of the interim policy has been thoroughly reviewed and assessed.The following interim policy is designed to facilitate the safe integration of these mobility devices into the Federal workplace.

Definition of Segway and Scope of Interim Policy

A Segway is a two-wheeled, gyroscopically stabilized, battery-powered personal transportation device. Additional information on this device is available at the following link: http://www.segway.com. This policy applies not only to the brand name Segway®, but also to any similar device that is being used as a mobility aid by an individual with a mobility impairment. This policy does not cover motorcycles, mopeds, tricycles, bicycles (whether or not motor-powered), or other similar devices not permitted to be operated in Federal buildings.

For purposes of this policy, an “individual with a mobility impairment” means any person who is subject to any physical impairment or condition regardless of its cause, nature or extent that renders the person unable to move about without the aid of crutches, a wheelchair or any other form of support, or that limits the person's functional ability to ambulate, climb, descend, sit, or rise, or to perform any related function.

Applicability

Individual with a Mobility Impairment - An individual with a mobility impairment is permitted to operate a Segway in a Federal building under the jurisdiction, custody or control of GSA in any areas open to pedestrian use.

Individual without a Mobility Impairment - An individual without a mobility impairment is not permitted to operate a Segway within a Federal building under the jurisdiction, custody or control of GSA. An individual may bring a Segway into a Federal building, provided the “power assist” mode, or any other mode that engages the battery, is not used when walking the Segway, unless the on-site security personnel or building manager determines that bringing the device into the building is not reasonable in the specific circumstances. Requests for waivers to the policy prohibiting an individual without a mobility impairment from operating a Segway in a Federal building under the jurisdiction, custody or control of GSA will be considered on a case-by-case basis and will require the approval of the appropriate GSA Assistant Regional Administrator, Public Buildings Service, where such specific authorization may facilitate improvements in the efficiency in performing work assignments. One example of a circumstance in which a waiver could be appropriate is an individual without a mobility impairment who performs work in areas that are spacious, such as a warehouse, where four-wheeled, battery-operated devices are currently in use.

Safety

The Segway must be operated in a manner that does not compromise the safety of the user, the building occupants or the building infrastructure. Those individuals operating a Segway within a Federal building must remain in control at all times and must exercise caution when turning corners and entering or exiting elevators. GSA requires users to operate their Segway at a speed no greater than a walking pace of three (3) miles per hour. Security personnel, as well as GSA personnel and other agency personnel in delegated buildings, shall monitor, to the extent practical, the safe and responsible operation of Segway devices by their users. Should security or building management personnel observe the unsafe operation of a Segway device, these individuals shall remind the user of their responsibility for the safe operation of the Segway and the user's accountability for not operating the device at a speed that exceeds three (3) miles per hour.

Security (where access is controlled by security personnel and screening devices)

Magnetometer and X-ray security screening devices are ineffective for the evaluation of Segways. Segway representatives have reported that magnetometer devices affect the operation and software programs of the transporter device when coming in contact with or close proximity to magnetic fields. Accordingly, Segway recommends that the transporter device not be operated within five (5) feet of any magnetometer or X-ray security screening device. If within five (5) feet of a magnetometer or X-ray security screening device, the user of the transporter device should place the unit in standby mode or powered off mode to prevent damage to the transporter device.

GSA and associated building security personnel reserve the right to inspect Segway devices upon entrance to a Federal building. Upon entering a Federal building under the jurisdiction, custody or control of GSA, security personnel shall notify the individual that only those persons with a mobility impairment are authorized to operate a Segway within the building. The security personnel may not ask a person using the device questions about the nature and extent of the person's disability. Security personnel shall inspect Segways in the same manner as other motorized devices that enter the building, including electric wheelchairs and scooters. Security personnel may request that the Segway user demonstrate that the device is operational thereby ensuring that the device contains its propulsion and battery equipment. The Segway user will be subject to the appropriate screening protocols established by security personnel for the protection of occupants, visitors and facilities, while maintaining the dignity of all persons who enter the building.

Vertical Transportation

Segway devices are permitted on elevators, but are not permitted on escalators, as per manufacturer guidance.

[FR Doc. E7-25592 Filed 1-4-08; 8:45 am]

BILLING CODE 6820-RH-S